SECURITIES AND EXCHANGE COMMISSION

[File No. 500-1]

In the Matter of Four Crystal Funding, Inc.; Order of Suspension of Trading

August 16, 2010.

It appears to the Securities and Exchange Commission that there is a lack of current and accurate information concerning the securities of Four Crystal Funding, Inc. (“Four Crystal”) because it has not filed any periodic reports since the period ended June 30, 2006. Four Crystal is quoted on the Pink Sheets operated by Pink OTC Markets, Inc. under the ticker symbol FCRS.

The Commission is of the opinion that the public interest and the protection of investors require a suspension of trading in the securities of the above-listed company, and any equity securities of any entity purporting to succeed to this issuer.

Therefore, it is ordered, pursuant to Section 12(k) of the Securities Exchange Act of 1934, that trading in the securities of the above-listed company, and any equity securities of any entity purporting to succeed to this issuer, is suspended for the period from 9:30 a.m. EDT on August 16, 2010, through 11:59 p.m. EDT on August 27, 2010.

By the Commission.
Elizabeth M. Murphy,
Secretary.

[FR Doc. 2010-20548 Filed 8-16-10; 4:15 pm]

BILLING CODE 8011-01-P